DEPARTMENT OF TRANSPORTATION

Federal Motor Carrier Safety Administration

Sunshine Act Meetings; Unified Carrier Registration Plan Board of Directors Pursuant to the Government in the Sunshine Act (Pub. L. 94-409) (5 U.S.C. 552b).

AGENCY: Federal Motor Carrier Safety Administration (FMCSA), DOT.

Times and Dates: August 22, 2006, 1 p.m. to 5 p.m., and August 23, 2006, 8 a.m. to 12 p.m.

Place: Hilton Chicago O'Hare Airport, O'Hare International Airport, Chicago, IL 60666.

Status: Open to the public.

Matters to be Considered: An overview of the Unified Carrier Registration Plan and Agreement requirements set forth under section 4305 of the Safe, Accountable, Flexible, Efficient Transportation Equity Act: A Legacy for Users (Pub. L. 109-59, 119 Stat. 1144, August 10, 2005); and the administrative functioning of the Board.

FOR FURTHER INFORMATION CONTACT: Mr. William Quade, (202) 366-2172, Director, Office of Safety Programs, FMCSA, or Mr. Bryan Price, (412) 395-4816, Transportation Specialist, FMCSA Pennsylvania Division Office, office hours are from 8 a.m. to 5 p.m., e.t. Monday through Friday except Federal holidays.

Dated: August 21, 2006.
Pamela Pelcovits,
Director, Office of Policy, Plans, and Regulation.

[FR Doc. 06-7125 Filed 8-21-06; 12:57 pm]

BILLING CODE 4910-EX-P